DEPARTMENT OF LABOR

Mine Safety and Health Administration

Proposed Information Collection Request Submitted for Public Comment and Recommendations; Examinations & Testing of Electrical Equipment Including Exam, Testing, and Maintenance of High Voltage Longwalls

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) (44 U.S.C. 3506 (c)(2)(A)). This program helps to ensure that requested data can be provided in the desired format, reporting burden (time and financial resources) is minimized, collection instruments are clearly understood, and the impact of collection requirements on respondents can be properly assessed.

DATES: Submit comments on or before January 18, 2005.

ADDRESSES: Send comments to Melissa Stoehr, Acting Chief, Records Management Branch, 1100 Wilson Boulevard, Room 2134, Arlington, VA 22209-3939. Commenters are encouraged to send their comments on computer disk, or via e-mail to stoehr.melissa@dol.gov. Ms. Stoehr can be reached at (202) 693-9827 (voice), or (202) 693-9801 (facsimile).

FOR FURTHER INFORMATION CONTACT: Contact the employee listed in the ADDRESSES section of this notice.

SUPPLEMENTARY INFORMATION:

I. Background

It has long been known that inadequate maintenance of electric equipment is a major cause of serious electrical accidents in the coal mining industry. Improperly maintained electric equipment has also been responsible for many disastrous mine fires and explosions. The regulations also contain recordkeeping requirements which may in some instances help operators in implementing an effective maintenance program. The subject records of tests and examinations are examined by coal miners, coal mine officials, and MSHA inspectors. MSHA inspectors examine the records to determine if the required tests and examinations have been conducted, to identify units of electric equipment that may pose a potential safety hazard, to determine the probable cause of accidents during accident investigations, and to evaluate the effectiveness of the coal mine operator's electrical maintenance programs. By comparing the records with the actual condition of electric equipment, MSHA inspectors may in some cases be able to identify weaknesses in the coal mine operator's electrical maintenance programs and require that the weaknesses be corrected.

II. Desired Focus of Comments

Currently, the Mine Safety and Health Administration (MSHA) is soliciting comments concerning the proposed extension of the information collection requirement related to Records of Tests and Examinations of Personnel Hoisting Equipment. MSHA is particularly interested in comments that:

• Evaluate whether the proposed collection of information is necessary for the proper performance of MSHA's functions, including whether the information has practical utility;

• Evaluate the accuracy of MSHA's estimate of the burden of the proposed collection of information, including the validity of the methodology and assumptions used;

• Suggest methods to enhance the quality, utility, and clarity of the information to be collected; and

• Address the use of appropriate automated, electronic, mechanical, or other technological collection techniques or other forms of information technology, (e.g., permitting electronic submissions of responses) to minimize the burden of the collection of information on those who are to respond.

A copy of the proposed information collection request can be obtained by contacting the employee listed in the ADDRESSES section of this notice or viewed on the Internet by accessing the MSHA home page (http://www.msha.gov) and then choosing “Statutory and Regulatory Information” and “Federal Register Documents.”

III. Current Actions

The subject regulations require the mine operator to establish an electrical maintenance program by specifying minimum requirements for the examination, testing, and maintenance of electric equipment. It is imperative that mine operators adopt and follow an effective maintenance program to ensure that electric equipment is maintained in a safe operating condition if electrocutions, mine fires, and mine explosions are to be prevented. Because of fire, electrocution and explosion hazards in coal mines, mine operators are required to comply with these paperwork provisions. Reduction of these requirements could result in increased hazards to miners. A reduction in the frequency of examinations and tests could allow existing unsafe conditions to develop, jeopardizing the safety of miners.

Type of Review: Extension.

Agency: Mine Safety and Health Administration.

Title: Examinations & Testing of Electrical Equipment Including Exam, Testing, and Maintenance of High Voltage Longwalls.

OMB Number: 1219-0116.

Frequency: Annually; Monthly; Weekly; On occasion.

Affected Public: Business or other for-profit.

Cite/reference | Frequency | Total responses | Response time (hours) | Burden hours
18.53(h) | Annual | 3 | 1.1 | 3.3
75.820(b) and (e) | Annual | 17,500 | .083 | 1,453
78.821(d) | Annual | 2,500 | 1.5 | 3,750
75.512 and 75.703 3(d)(11) | Weekly | 760,100 | 0.5 | 380,050
77.502 | Monthly | 271,272 | 1.25 | 339,090
75.800—3 & 4 and 77.800—1 & 2 | Monthly | 31,188 | 0.75 | 23,391
75.900—3 & 4 | Monthly | 65,760 | 1.5 | 98,640
77.900—1 & 2 | Monthly | 18,084 | 0.75 | 13,563
75.1001—1(b) & (c) | 6 Months | 1,836 | 1.5 | 2,754
75.351 | Monthly | 7,128 | 1.25 | 8,910
Total |  | 1,175,371 |  | 871,604.3

Respondents: 1,600.

Responses: 1,175,371.

Total Burden Hours: 871,604.

Total Burden Cost (capital/startup): $0.

Total Burden Cost (operating/maintaining): $0.

Comments submitted in response to this notice will be summarized and/or included in the request for Office of Management and Budget approval of the information collection request; they will also become a matter of public record.

Dated at Arlington, Virginia, this 10th day of November, 2004.
David L. Meyer,
Director, Office of Administration and Management.

[FR Doc. 04-25687 Filed 11-18-04; 8:45 am]

BILLING CODE 4510-43-P